DEPARTMENT OF HOMELAND SECURITY

Transportation Security Administration

New Agency Information Collection Activity Under OMB Review: On-Boarding Information for New Hire Candidates

AGENCY: Transportation Security Administration, DHS.

ACTION: 30-day Notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on July 18, 2008, 73 FR 41367. The collection involves collecting personal information from new hire candidates for their entrance on duty (EOD) as part of the hiring process using an electronic interface known as EODonline.

DATES: Send your comments by December 22, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information Technology, TSA-11, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: On-Boarding Information for New Hire Candidates.

Type of Request: New collection.

OMB Control Number: Not yet assigned.

Form(s): NA.

Affected Public: TSA New Hires.

Abstract: In an effort to streamline and add efficiency to the EOD process, TSA has transformed the paper-based process into an electronic one by implementing a system known as EODonline. Applicants who have accepted a position with TSA are able to log onto EODonline, where they answer questions designed to gather the necessary data to generate the standard EOD forms. Using EODonline allows employees to complete the EOD process more expeditiously and accurately. TSA will use the results of EODonline usage to measure efficiencies gained through implementation of the automated system both on the part of the new hire candidates (as applicable) and the agency.

Number of Respondents: 10,400.

Estimated Annual Burden Hours: An estimated 10,400 hours annually.

Issued in Arlington, Virginia, on November 14, 2008.
Ginger LeMay,
Paperwork Reduction Act Officer, Business Improvements and Communications, Office of Information Technology.

[FR Doc. E8-27513 Filed 11-19-08; 8:45 am]

BILLING CODE 9110-05-P